INTERNATIONAL TRADE COMMISSION

[USITC SE-01-009]

Sunshine Act Meeting

AGENCY HOLDING THE MEETING: International Trade Commission.

TIME AND DATE: March 14, 2001 at 2:00 p.m.

PLACE: Room 101, 500 E Street S.W., Washington, DC 20436, Telephone: (202) 205-2000.

STATUS: Open to the public.

MATTERS TO BE CONSIDERED: 1. Agenda for future meeting: none.

2. Minutes.

3. Ratification List.

4. Inv. Nos. 731-TA-678-679 and 681-682 (Review) (Stainless Steel Bar from Brazil, India, Japan, and Spain)—briefing and vote. (The Commission is currently scheduled to transmit its determination and Commissioners' opinions to the Secretary of Commerce on March 26, 2001.)

5. Outstanding action jackets:

(1.) Document No. GC-01-010: Concerning Inv. No. 337-TA-432 (Certain Semiconductor Chips with Minimized Chip Package Size and Products Containing Same).

In accordance with Commission policy, subject matter listed above, not disposed of at the scheduled meeting, may be carried over to the agenda of the following meeting.

Issued: March 6, 2001.
By order of the Commission.
Donna R. Koehnke,
Secretary.

[FR Doc. 01-6059 Filed 3-7-01; 12:23 pm]

BILLING CODE 7020-02-U